NEIGHBORHOOD REINVESTMENT CORPORATION

Audit Committee Meeting; Sunshine Act

TIME AND DATE: 10:00 a.m., Tuesday, September 13, 2016.

PLACE: NeighborWorks America—Gramlich Boardroom, 999 North Capitol Street NE., Washington, DC 20002.

STATUS: Open (with the exception of Executive Sessions).

CONTACT PERSON: Jeffrey Bryson, General Counsel/Secretary, (202) 760-4101; jbryson@nw.org.

AGENDA:

I. CALL TO ORDER

II. Executive Session with External Auditor

III. Executive Session with the Chief Audit Executive

IV. Executive Session with Officers: Pending Litigation

V. Presentation of the FY17 Internal Audit Plan

VI. Internal Audit Reports with Management's Response

VII. Update to FY15 Correction Plan & Responses to Management Letter Recommendations

VIII. Internal Audit Status Reports

IX. Adjournment

The General Counsel of the Corporation has certified that in his opinion, one or more of the exemptions set forth in 5 U.S.C. 552(b)(4) permit closure of the following portions of this meeting:

• Executive Session with the External Auditor

• Executive Session with the Chief Audit Executive

• Executive Session—Pending Litigation

Jeffrey T. Bryson,
EVP & General Counsel/Corporate Secretary.

[FR Doc. 2016-21362 Filed 8-31-16; 4:15 pm]

BILLING CODE 7570-02-P